DEPARTMENT OF ENERGY

Federal Energy Regulatory Commission

Combined Notice of Filings # 1

June 10, 2008.

Take notice that the Commission received the following electric corporate filings:

Docket Numbers: EC08-86-000.

Applicants: Wabash Valley Power Association, Inc., TPF Generation Holdings, LLC, Holland Energy, LLC.

Description: Wabash Valley Power Association (Inc), et al. submits an Addendum to its Application for Authorization Disposition of Jurisdictional Assets under section 203.

Filed Date: 06/09/2008.

Accession Number: 20080609-5050.

Comment Date: 5 p.m. Eastern Time on Monday, June 30, 2008.

Docket Numbers: EC08-99-000.

Applicants: Noble Environmental Power.

Description: Joint Application of Noble Environmental Power, LLC for Authorization of Proposed Transaction under Section 203, and Request for Expedited Consideration, Waiver of Certain Filing Requirements.

Filed Date: 06/05/2008.

Accession Number: 20080605-5046.

Comment Date: 5 p.m. Eastern Time on Thursday, June 26, 2008.

Take notice that the Commission received the following exempt wholesale generator filings:

Docket Numbers: EG08-75-000.

Applicants: Notrees Windpower, LP.

Description: Self Certification Notice of Exempt Wholesale Generator of Notrees Windpower, LP.

Filed Date: 06/04/2008.

Accession Number: 20080604-5073.

Comment Date: 5 p.m. Eastern Time on Wednesday, June 25, 2008.

Take notice that the Commission received the following electric rate filings:

Docket Numbers: ER98-1767-011; ER07-501-007; ER99-1695-011; ER99-2984-010.

Applicants: Tenaska Frontier Partners, Ltd.; Birchwood Power Partners, L.P.; Elwood Energy, LLC; Green Country Energy, LLC.

Description: Notification of Non-Material Change in Status of J-Power North America Holdings, Ltd.

Filed Date: 06/06/2008.

Accession Number: 20080606-5136.

Comment Date: 5 p.m. Eastern Time on Friday, June 27, 2008.

Docket Numbers: ER96-719-019; ER97-2801-020; ER99-2156-013.

Applicants: Cordova Energy Company LLC, MidAmerican Energy Company.

Description: Cordova Energy Company LLC et al. submits information regarding PaCificCorp's Blundell Geothermal II Generating Facility.

Filed Date: 06/03/2008.

Accession Number: 20080605-0122.

Comment Date: 5 p.m. Eastern Time on Tuesday, June 24, 2008.

Docket Numbers: ER01-2830-003.

Applicants: Davison Van Cleve, PC.

Description: Application of Roseburg Forest Products for Finding as a Category 1 Seller of Davison Van Cleve, PC.

Filed Date: 06/09/2008.

Accession Number: 20080609-5124.

Comment Date: 5 p.m. Eastern Time on Monday, June 30, 2008.

Docket Numbers: ER02-1903-008.

Applicants: FPL Energy Marcus Hook, L.P.

Description: FPL Energy Marcus Hook LP submits a notice of change in status.

Filed Date: 06/06/2008.

Accession Number: 20080610-0219.

Comment Date: 5 p.m. Eastern Time on Friday, June 27, 2008.

Docket Numbers: ER02-1903-008.

Applicants: FPL Energy Marcus Hook, L.P.

Description: FPL Energy Marcus Hook LP submits a notice of change in status.

Filed Date: 06/06/2008.

Accession Number: 20080610-0219.

Comment Date: 5 p.m. Eastern Time on Friday, June 27, 2008.

Docket Numbers: ER03-9-013; ER98-2157-014.

Applicants: Westar Energy, Inc.; Kansas Gas and Electric Company

Description: Westar Energy, Inc submits Sixth Revised Sheet 1 et al. to its FERC Tariff, Third Revised Volume 6, effective 9/18/07.

Filed Date: 06/04/2008.

Accession Number: 20080606-0056.

Comment Date: 5 p.m. Eastern Time on Wednesday, June 25, 2008.

Docket Numbers: ER07-45-002.

Applicants: Horizon Power & Light LLC.

Description: Horizon Power & Light LLC submits the Amended Updated Market Power Analysis.

Filed Date: 06/04/2008.

Accession Number: 20080609-0070.

Comment Date: 5 p.m. Eastern Time on Wednesday, June 25, 2008.

Docket Numbers: ER08-781-001.

Applicants: Central Illinois Light Company, Central Illinois Public Service Company, Illinois Power Company.

Description: The Ameren Illinois Utilities jointly submit a compliance filing of an executed Electric Resource Sharing Agreement for Capacity.

Filed Date: 06/04/2008.

Accession Number: 20080606-0006.

Comment Date: 5 p.m. Eastern Time on Wednesday, June 25, 2008.

Docket Numbers: ER08-832-001.

Applicants: ISO New England Inc.

Description: Notice of Withdrawal of Tariff Sheets re ISO New England.

Filed Date: 06/06/2008.

Accession Number: 20080606-5112.

Comment Date: 5 p.m. Eastern Time on Friday, June 27, 2008.

Docket Numbers: ER08-848-001.

Applicants: GearyEnergy, LLC.

Description: GearyEnergy, LLC submits a revised application for market-based rate authority.

Filed Date: 06/05/2008.

Accession Number: 20080610-0225.

Comment Date: 5 p.m. Eastern Time on Thursday, June 26, 2008.

Docket Numbers: ER08-1025-001.

Applicants: The Connecticut Light and Power Company

Description: The Connecticut Light and Power Co. submits Amendment No. 2 to the Interconnection and Operation Agreement.

Filed Date: 06/05/2008.

Accession Number: 20080610-0224.

Comment Date: 5 p.m. Eastern Time on Thursday, June 26, 2008.

Docket Numbers: ER08-1028-000.

Applicants: Westar Energy, Inc.

Description: Westar Energy, Inc submits Second Revised Sheet 11 and 1 to the Wholesale Electric Service Agreement commencing 2/1/88, designated First Revised Rate Schedule FERC 170 between Kansas Gas and Electric Company etc.

Filed Date: 05/30/2008.

Accession Number: 20080603-0097.

Comment Date: 5 p.m. Eastern Time on Friday, June 20, 2008.

Docket Numbers: ER08-1030-000.

Applicants: Westar Energy, Inc.

Description: Westar Energy, Inc & Kansas Gas & Electric Co submits Second Revised Sheets 9 & 1 to the Wholesale Electric Service Agreement commencing 2/1/88, designated First Revised Rate Schedule FERC 169 w/City of La Harpe, KS.

Filed Date: 05/30/2008.

Accession Number: 20080603-0096.

Comment Date: 5 p.m. Eastern Time on Friday, June 20, 2008.

Docket Numbers: ER08-1057-001.

Applicants: Entergy Services, Inc.

Description: Entergy Operating Companies submits corrected pages B.1 and B.1.1 and requests that the corrected pages replace those included in the original filing made on 5/30/08.

Filed Date: 06/06/2008.

Accession Number: 20080610-0220.

Comment Date: 5 p.m. Eastern Time on Friday, June 27, 2008.

Docket Numbers: ER08-1065-000.

Applicants: PJM Interconnection, L.L.C.

Description: PJM Interconnection, LLC submits amendments to Schedule 12 Appendix of the PJM Tariff to include cost responsibility assignments for four baseline upgrades that will operate at or above 500 kV, etc.

Filed Date: 06/03/2008.

Accession Number: 20080605-0044.

Comment Date: 5 p.m. Eastern Time on Tuesday, June 24, 2008.

Docket Numbers: ER08-1066-000.

Applicants: ISO New England Inc. and New England Power Pool Participants Committee.

Description: ISO New England, Inc and New England Power Pool Participants Committee submits First Revised Sheet 7307D et al and supporting testimony of Peter K Wong.

Filed Date: 06/03/2008.

Accession Number: 20080605-0045.

Comment Date: 5 p.m. Eastern Time on Tuesday, June 24, 2008.

Docket Numbers: ER08-1067-000.

Applicants: American Electric Power Service Corporation.

Description: The American Electric Power Service Corp on behalf of the AEP Operating Companies submits the Third Revision to the Interconnection and Local Delivery Service Agreement 1425 with the Village of Plymouth.

Filed Date: 06/04/2008.

Accession Number: 20080605-0046.

Comment Date: 5 p.m. Eastern Time on Wednesday, June 25, 2008.

Docket Numbers: ER08-1068-000.

Applicants: PJM Interconnection, L.L.C.

Description: PJM Interconnection, LLC submits an executed interconnection service agreement with Providence Heights Wind, LLC et al.

Filed Date: 06/04/2008.

Accession Number: 20080605-0047.

Comment Date: 5 p.m. Eastern Time on Wednesday, June 25, 2008.

Docket Numbers: ER08-1070-000.

Applicants: Coral Power, L.L.C.

Description: Coral Power, LLC submits a Notice of Cancellation of Fourth Revised Rate Schedule FERC 1, effective 6/1/08.

Filed Date: 06/04/2008.

Accession Number: 20080606-0005.

Comment Date: 5 p.m. Eastern Time on Wednesday, June 25, 2008.

Docket Numbers: ER08-1071-000.

Applicants: Coral Energy Management, LLC.

Description: Coral Energy Management, LLC submits a Notice of Cancellation of First Revised Rate Schedule FERC 1.

Filed Date: 06/04/2008.

Accession Number: 20080606-0004.

Comment Date: 5 p.m. Eastern Time on Wednesday, June 25, 2008.

Docket Numbers: ER08-1072-000.

Applicants: Nevada Power Company.

Description: Nevada Power Co. submits a Notice of Termination of the Service Agreement for Long-Term Firm Point-to-Point Transmission Service.

Filed Date: 06/04/2008.

Accession Number: 20080606-0003.

Comment Date: 5 p.m. Eastern Time on Wednesday, June 25, 2008.

Docket Numbers: ER08-1073-000.

Applicants: Deseret Generation & Transmission Co-op.

Description: Deseret Generation & Transmission Co-operative, Inc submits its annual Informational Filing setting forth updated approved costs for member-owned generation resources for 2008.

Filed Date: 06/04/2008.

Accession Number: 20080606-0002.

Comment Date: 5 p.m. Eastern Time on Wednesday, June 25, 2008.

Docket Numbers: ER08-1074-000.

Applicants: The Midwest Independent Transmission Sys.

Description: Midwest Independent Transmission System Operator, Inc submits an executed Small Generator Interconnection Agreement.

Filed Date: 06/04/2008.

Accession Number: 20080606-0001.

Comment Date: 5 p.m. Eastern Time on Wednesday, June 25, 2008.

Docket Numbers: ER08-1075-000.

Applicants: Entergy Services, Inc.

Description: Entergy Operating Companies submits proposed amendments to the agreement first executed on 11/17/06 with Southwest Power Pool, Inc.

Filed Date: 06/05/2008.

Accession Number: 20080609-0115.

Comment Date: 5 p.m. Eastern Time on Thursday, June 26, 2008.

Docket Numbers: ER08-1076-000.

Applicants: The American Electric Power Service Corp.

Description: AEP Operating Companies submits a second revision to the Interconnection and Local Delivery Service Agreement 1429 with Village of Sycamore.

Filed Date: 06/05/2008.

Accession Number: 20080609-0112.

Comment Date: 5 p.m. Eastern Time on Thursday, June 26, 2008.

Docket Numbers: ER08-1077-000.

Applicants: Southern California Edison Company.

Description: Southern California Edison Co. submits a Large Generator Interconnection Agreement with CPV Sentinel, LLC et al.

Filed Date: 06/05/2008.

Accession Number: 20080609-0114.

Comment Date: 5 p.m. Eastern Time on Thursday, June 26, 2008.

Docket Numbers: ER08-1078-000.

Applicants: Entergy Services, Inc.

Description: Entergy Gulf States Louisiana, LLC submits an amended Interconnection and Operating Agreement between RSC Cogen, LLC and EGS.

Filed Date: 06/06/2008.

Accession Number: 20080610-0204.

Comment Date: 5 p.m. Eastern Time on Friday, June 27, 2008.

Docket Numbers: ER08-1079-000.

Applicants: Entergy Services, Inc.

Description: Entergy Services, Inc submits an amended Interconnection and Operating Agreement between LSP Energy Limited Partnership and EMI.

Filed Date: 06/06/2008.

Accession Number: 20080610-0205.

Comment Date: 5 p.m. Eastern Time on Friday, June 27, 2008.

Docket Numbers: ER08-1086-000.

Applicants: Saracen Energy MB L.P.

Description: Saracen Energy MB LP submits its Cancellation of Rate Schedule and gives notice that Rate Schedule FERC 1 effective 7/1/07, is being cancelled.

Filed Date: 06/05/2008.

Accession Number: 20080610-0213.

Comment Date: 5 p.m. Eastern Time on Thursday, June 26, 2008.

Docket Numbers: ER08-1088-000.

Applicants: PJM Interconnection, L.L.C.

Description: PJM Interconnection, LLC submits a revised interconnection service agreement and revised construction service agreement.

Filed Date: 06/06/2008.

Accession Number: 20080610-0203.

Comment Date: 5 p.m. Eastern Time on Friday, June 27, 2008.

Docket Numbers: ER08-1089-000.

Applicants: Port Washington Generating Station LLC.

Description: Port Washington Generating Station LLC notifies FERC of the termination of Rate Schedule FERC 1 under which PWGS was authorized to sell test power to Wisconsin Electric Power Company etc.

Filed Date: 06/06/2008.

Accession Number: 20080610-0214.

Comment Date: 5 p.m. Eastern Time on Friday, June 27, 2008.

Docket Numbers: ER08-1089-000.

Applicants: Port Washington Generating Station LLC.

Description: Port Washington Generating Station LLC notifies FERC of the termination of Rate Schedule FERC 1 under which PWGS was authorized to sell test power to Wisconsin Electric Power Company etc.

Filed Date: 06/06/2008.

Accession Number: 20080610-0214.

Comment Date: 5 p.m. Eastern Time on Friday, June 27, 2008.

Docket Numbers: ER08-1090-000.

Applicants: New York Independent System Operator, Inc.

Description: New York Independent System Operator, Inc. submits revisions to its Open Access Transmission Tariff and Market Administration and Control Area Services Tariff.

Filed Date: 06/06/2008.

Accession Number: 20080610-0215.

Comment Date: 5 p.m. Eastern Time on Friday, June 27, 2008.

Docket Numbers: ER08-1091-000.

Applicants: West Valley Leasing Company, LLC.

Description: West Valley Leasing Company, LLC submits Notice of Cancellation of its market-based rate tariff, FERC Electric Tariff, Original Volume 1, to become effective 6/10/08.

Filed Date: 06/09/2008.

Accession Number: 20080610-0216.

Comment Date: 5 p.m. Eastern Time on Monday, June 30, 2008.

Docket Numbers: ER08-1092-000.

Applicants: The American Electric Power Service Corp.

Description: AEP Operating Companies submits a second revision to the Interconnection and Local Delivery Service agreement 1421 with Village of Cygnet.

Filed Date: 06/09/2008.

Accession Number: 20080610-0218.

Comment Date: 5 p.m. Eastern Time on Monday, June 30, 2008.

Docket Numbers: ER08-1093-000.

Applicants: Pacific Gas and Electric Company.

Description: Pacific Gas and Electric Co. submits notices of termination for two Special Facilities Agreements with City and County of San Francisco.

Filed Date: 06/09/2008.

Accession Number: 20080610-0217.

Comment Date: 5 p.m. Eastern Time on Monday, June 30, 2008.

Take notice that the Commission received the following electric securities filings:

Docket Numbers: ES08-52-000.

Applicants: Monongahela Power Company.

Description: Application of Monongahela Power Company under Section 204 of the Federal Power Act for Authorization under Section 204(a) to issue up to $410 Million in First Mortgage Bonds or Other Long-Term Debt Instruments.

Filed Date: 06/09/2008.

Accession Number: 20080609-5117.

Comment Date: 5 p.m. Eastern Time on Monday, June 30, 2008.

Take notice that the Commission received the following foreign utility company status filings:

Docket Numbers: FC08-6-000.

Applicants: SunEdison International, LLC.

Description: Notice of Self Certification of Foreign Utility Company, Status of SunEdison International, LLC.

Filed Date: 06/06/2008.

Accession Number: 20080606-5121.

Comment Date: 5 p.m. Eastern Time on Friday, June 27, 2008.

Take notice that the Commission received the following open access transmission tariff filings:

Docket Numbers: OA08-13-003.

Applicants: New York Independent System Operator, Inc.

Description: New York Independent System Operator, Inc submits tariff revisions in compliance to FERC's 5/7/08 Order.

Filed Date: 06/06/2008.

Accession Number: 20080610-0223.

Comment Date: 5 p.m. Eastern Time on Friday, June 27, 2008.

Docket Numbers: OA07-88-002.

Applicants: Carolina Power & Light Company d/b/a Pro, Florida Power Corp. d/b/a Progress Energy, Progress Energy, Inc.

Description: Order No. 890 OATT Filing of Carolina Power & Light Company and Florida Power Corporation.

Filed Date: 06/04/2008.

Accession Number: 20080604-5069.

Comment Date: 5 p.m. Eastern Time on Wednesday, June 25, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov.

To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-13559 Filed 6-16-08; 8:45 am]

BILLING CODE 6717-01-P